NUCLEAR REGULATORY COMMISSION

[Docket No. 50-461]

Amergen Energy Company, LLC; Notice of Withdrawal of Application for Amendment to Facility Operating License

The U.S. Nuclear Regulatory Commission (the Commission) has granted the request of AmerGen Energy Company, LLC (the licensee) to withdraw its November 16, 2006, application for proposed amendment to Facility Operating License No. NPF-62 for the Clinton Power Station, Unit No. 1, located in DeWitt County, Illinois.

The proposed amendment would have revised the facility technical specifications (TSs) pertaining to TS 3.6.5.1, “Drywell,” surveillance requirement, 3.6.5.1.3, to delay the performance of the next drywell bypass leakage rate test from the current requirement of November 23, 2008, to prior to startup from the Clinton Unit 1, refueling outage 12 (C1R12), projected for January 2010; and TS 5.5.13, “Primary Containment Leakage Rate Testing Program,” to delay the performance of the next primary containment Type A integrated leak rate test from the current requirement of no later than November 23, 2008, to prior to startup from the C1R12 refueling outage.

The Commission had previously issued a Notice of Consideration of Issuance of Amendment published in the Federal Register on January 30, 2007 (72 FR 4306). However, by letter dated April 30, 2007, the licensee withdrew the proposed change.

For further details with respect to this action, see the application for amendment dated November 16, 2006, and the licensee's letter dated April 30, 2007, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the Internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 28th day of August, 2007.
For the Nuclear Regulatory Commission.
Stephen P. Sands,
Project Manager, Plant Licensing Branch III-2, Division of Operating Reactor Licensing, Office of Nuclear Reactor Regulation.

[FR Doc. E7-17600 Filed 9-5-07; 8:45 am]

BILLING CODE 7590-01-P